DEPARTMENT OF HOMELAND SECURITY

Federal Emergency Management Agency

[Docket ID FEMA-2015-0011; OMB No. 1660-NEW]

Agency Information Collection Activities: Proposed Collection; Comment Request, Integrated Public Alert and Warning Systems (IPAWS) Memorandum of Agreement Applications

AGENCY: Federal Emergency Management Agency, DHS.

ACTION: Notice.

SUMMARY: The Federal Emergency Management Agency, as part of its continuing effort to reduce paperwork and respondent burden, invites the general public and other Federal agencies to take this opportunity to comment on a new information collection. In accordance with the Paperwork Reduction Act of 1995, this notice seeks comments concerning the Integrated Public Alert and Warning Systems (IPAWS) Memorandum of Agreement Applications.

DATES: Comments must be submitted on or before June 22, 2015.

ADDRESSES: To avoid duplicate submissions to the docket, please use only one of the following means to submit comments:

(1) Online. Submit comments at www.regulations.gov under Docket ID FEMA-2015-0011. Follow the instructions for submitting comments.

(2) Mail. Submit written comments to Docket Manager, Office of Chief Counsel, DHS/FEMA, 500 C Street, SW., Room 8NE, Washington, DC 20472-3100.

(3) Facsimile. Submit comments to (703) 483-2999.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Hans N. Yu, Project Manager, FEMA, National Continuity Programs, Protection & National Preparedness, (202) 646-3910 for additional information. You may contact the Records Management Division for copies of the proposed collection of information at facsimile number (202) 212-4701 or email address: FEMA-Information-Collections-Management@fema.dhs.gov.

SUPPLEMENTARY INFORMATION: Presidential Executive Order 13407 establishes the policy for an effective, reliable, integrated, flexible, and comprehensive system to alert and warn the American people in situations of war, terrorist attack, natural disaster, or other hazards to public safety and wellbeing. The Integrated Public Alert and Warning System (IPAWS) is the Department of Homeland Security's (DHS) response to the Executive Order. The Stafford Act (U.S.C. Title 42, Chapter 68, Subchapter II) requires that FEMA make IPAWS available to Federal, State, and local agencies for the purpose of providing warning to governmental authorities and the civilian population in areas endangered by disasters. The information collected is used by FEMA to create a Memorandum of Agreement (MOA) that regulates the management, operations, and security of the information technology system connection between a Federal, State, territorial, tribal or local alerting authority and IPAWS-OPEN (Open Platform for Emergency Notifications).

Collection of Information

Title: Integrated Public Alert and Warning Systems (IPAWS) Memorandum of Agreement Applications.

Type of Information Collection: New information collection.

OMB Number: 1660-NEW.

FEMA Forms: FEMA Form 007-0-25, IPAWS Memorandum of Agreement (MOA) Application; FEMA Form 007-0-26, Memorandum of Agreement Application for (Tribal Governments).

Abstract: A Federal, State, territorial, tribal, or local alerting authority that applies for authorization to use IPAWS is designated as a Collaborative Operating Group or “COG” by the IPAWS Program Management Office (PMO). Access to IPAWS is free; however, to send a message using IPAWS, an organization must procure its own IPAWS compatible software. To become a COG, a Memorandum of Agreement (MOA) governing system security must be executed between the sponsoring organization and FEMA.

Affected Public: State, Local or Tribal Government.

Number of Respondents: 160.

Number of Responses: 160.

Estimated Total Annual Burden Hours: 160 hours.

Estimated Annualized Burden Hours and Costs
Type of respondent | Form name/form number | Number of respondents | Number of responses per respondent | Total number of responses | Average burden per response (in hours) | Total annual burden (in hours) | Average hourly wage rate | Total annual respondent cost
State, Local or Tribal Government | IPAWS Memorandum of Agreement Application/ FEMA Form 007-0-25 | 150 | 1 | 150 | 1 | 150 | $38.30 | $5,745.00
State, Local or Tribal Government | IPAWS Memorandum of Agreement Application for Tribal Governments/ FEMA Form 007-0-26 | 10 | 1 | 10 | 1 | 10 | 38.30 | 383.00
Total |  | 160 |  | 160 |  | 160 |  | 6,128.00
• Note: The “Avg. Hourly Wage Rate” for each respondent includes a 1.4 multiplier to reflect a fully-loaded wage rate.

Estimated Cost: The estimated annual cost to respondents for the hour burden is $6,128.00. There are no annual costs to respondents' operations and maintenance costs for technical services. There are no annual start-up or capital costs. The cost to the Federal Government is $74,343.00.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: April 13, 2015.
Janice Waller,
Acting Director, Records Management Division, U.S. Department of Homeland Security, Federal Emergency Management Agency, Mission Support.

[FR Doc. 2015-09252 Filed 4-20-15; 8:45 am]

BILLING CODE 9111-AB-P